SUSQUEHANNA RIVER BASIN COMMISSION

18 CFR Part 806

Review and Approval of Projects

AGENCY: Susquehanna River Basin Commission.

ACTION: Notice of proposed rulemaking; reopening of comment period.

SUMMARY: The purpose of this document is to inform the public of an extension of the comment period for proposed rules of the Susquehanna River Basin Commission (Commission) as published in the Federal Register of July 13, 2011.

DATES: The deadline extension of the public comment period is November 10, 2011. Comments on the proposed rule published July 13, 2011 (76 FR 41154) may be submitted to the Commission on or before November 10, 2011.

ADDRESSES: Address all comments to Richard A. Cairo, General Counsel, Susquehanna River Basin Commission, 1721 North Front Street, Harrisburg, PA 17102-2391 or by e-mail to rcairo@srbc.net.

FOR FURTHER INFORMATION CONTACT: Richard A. Cairo, General Counsel, telephone: (717) 238-0423, ext. 306; fax: (717) 238-2436; e-mail: rcairo@srbc.net. Also, for further information on the proposed rules, visit the Commission's Web site at http://www.srbc.net.

SUPPLEMENTARY INFORMATION: The public is hereby advised that, at its regular business meeting on September 15, 2011, in Milford, New York, the Commission extended to November 10, 2011, the written comment deadline for proposed rules that appeared in 76 FR 41154-41157 July 13, 2011. This action to extend the public comment period and delay action on the proposed rules is based on the level of public interest indicated in the comments received thus far by the Commission.

Authority: Pub. L. 91-575, 84 Stat. 1509 et seq., 18 CFR Parts 806, 807, and 808.

Dated: September 20, 2011.
Thomas W. Beauduy,
Deputy Executive Director.

[FR Doc. 2011-25159 Filed 9-29-11; 8:45 am]

BILLING CODE 7040-01-P